DEPARTMENT OF HEALTH AND HUMAN SERVICES

Centers for Disease Control and Prevention

[60Day-14-0666]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to Leroy Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

National Healthcare Safety Network (NHSN) (OMB No. 0920-0666, expires 10/31/2016)—Revision—National Center for Emerging and Zoonotic Infectious Diseases (NCEZID), Centers for Disease Control and Prevention (CDC).

Background and Brief Description

The National Healthcare Safety Network (NHSN) is a system designed to accumulate, exchange, and integrate relevant information and resources among private and public stakeholders to support local and national efforts to protect patients and promote healthcare safety. Specifically, the data is used to determine the magnitude of various healthcare-associated adverse events and trends in the rates of these events among patients and healthcare workers with similar risks. The data will be used to detect changes in the epidemiology of adverse events resulting from new and current medical therapies and changing risks. The NHSN currently consists of five components: Patient Safety, Healthcare Personnel Safety, Biovigilance, Long-Term Care Facility (LTCF), and Dialysis. Two new components will be added within the next one to two years: Outpatient Procedure and Antimicrobial Use & Resistance.

The Antimicrobial Use and Resistance (AUR) Component will be launched within NHSN that will specifically examine antimicrobial use (AU) and antimicrobial resistance (AR) within healthcare facilities. The goal of the AUR Component is to provide a mechanism for facilities to report and analyze antimicrobial use and/or resistance as part of local or regional efforts to reduce antimicrobial resistant infections through antimicrobial stewardship efforts or interruption of transmission of resistant pathogens at their facility. This revision submission includes one new form specific to the NHSN AUR Component.

Significant additions were made to three NHSN facility surveys. Questions about infection control practices were added to gain a better understanding of current practices and identify areas to target prevention efforts among facilities that have reported a multidrug-resistant organism. Questions about antibiotic stewardship were added to gain a better understanding of current efforts to improve antibiotic use in hospitals and to assess the quality of hospital antibiotic stewardship programs.

Additionally, minor revisions have been made to 31 other forms within the package to clarify and/or update surveillance definitions. Three forms are being removed as patient vaccination monitoring will be removed from NHSN.

The previously approved NSHN package included 56 individual collection forms; the current revision request adds one new form and removes three forms for a total of 54 forms. The reporting burden will increase by 172,943 hours, for a total of 4,277,716 hours.

Estimated Annualized Burden Hours
Type of respondent | Form name | Number of respondents | Number of responses per respondent | Average burden per response (in hours) | Total burden hours
Registered Nurse (Infection Preventionist) | NHSN Registration Form | 2,000 | 1 | 5/60 | 167
Registered Nurse (Infection Preventionist) | Facility Contact Information | 2,000 | 1 | 10/60 | 333
Registered Nurse (Infection Preventionist) | Patient Safety Component—Annual Hospital Survey | 6,000 | 1 | 50/60 | 5,000
Registered Nurse (Infection Preventionist) | Group Contact Information | 1,000 | 1 | 5/60 | 83
Registered Nurse (Infection Preventionist) | Patient Safety Monthly Reporting Plan | 6,000 | 12 | 15/60 | 18,000
Registered Nurse (Infection Preventionist) | Primary Bloodstream Infection (BSI) | 6,000 | 44 | 30/60 | 132,000
Registered Nurse (Infection Preventionist) | Pneumonia (PNEU) | 6,000 | 72 | 30/60 | 216,000
Registered Nurse (Infection Preventionist) | Ventilator-Associated Event | 6,000 | 144 | 25/60 | 360,000
Registered Nurse (Infection Preventionist) | Urinary Tract Infection (UTI) | 6,000 | 40 | 30/60 | 120,000
Staff RN | Denominators for Neonatal Intensive Care Unit (NICU) | 6,000 | 9 | 3 | 162,000
Staff RN | Denominators for Specialty Care Area (SCA)/Oncology (ONC) | 6,000 | 9 | 5 | 270,000
Staff RN | Denominators for Intensive Care Unit (ICU)/Other locations (not NICU or SCA) | 6,000 | 54 | 5 | 1,620,000
Registered Nurse (Infection Preventionist) | Surgical Site Infection (SSI) | 6,000 | 36 | 35/60 | 126,000
Staff RN | Denominator for Procedure | 6,000 | 540 | 5/60 | 270,000
Laboratory Technician | Antimicrobial Use and Resistance (AUR)—Microbiology Data Electronic Upload Specification Tables | 6,000 | 12 | 5/60 | 6,000
Pharmacy Technician | Antimicrobial Use and Resistance (AUR)—Pharmacy Data Electronic Upload Specification Tables | 6,000 | 12 | 5/60 | 6,000
Registered Nurse (Infection Preventionist) | Central Line Insertion Practices Adherence Monitoring | 1,000 | 100 | 5/60 | 8,333
Registered Nurse (Infection Preventionist) | MDRO or CDI Infection Form | 6,000 | 72 | 30/60 | 216,000
Registered Nurse (Infection Preventionist) | MDRO and CDI Prevention Process and Outcome Measures Monthly Monitoring | 6,000 | 24 | 15/60 | 36,000
Registered Nurse (Infection Preventionist) | Laboratory-identified MDRO or CDI Event | 6,000 | 240 | 15/60 | 360,000
Registered Nurse (Infection Preventionist) | Long-Term Care Facility Component—Annual Facility Survey | 250 | 1 | 1 | 250
Registered Nurse (Infection Preventionist) | Laboratory-identified MDRO or CDI Event for LTCF | 250 | 8 | 15/60 | 500
Registered Nurse (Infection Preventionist) | MDRO and CDI Prevention Process Measures Monthly Monitoring for LTCF | 250 | 12 | 5/60 | 250
Registered Nurse (Infection Preventionist) | Urinary Tract Infection (UTI) for LTCF | 250 | 9 | 30/60 | 1,125
Registered Nurse (Infection Preventionist) | Monthly Reporting Plan for LTCF | 250 | 12 | 5/60 | 250
Registered Nurse (Infection Preventionist) | Denominators for LTCF Locations | 250 | 12 | 3.25 | 9,750
Registered Nurse (Infection Preventionist) | Prevention Process Measures Monthly Monitoring for LTCF | 250 | 12 | 5/60 | 250
Registered Nurse (Infection Preventionist) | LTAC Annual Survey | 400 | 1 | 50/60 | 333
Registered Nurse (Infection Preventionist) | Rehab Annual Survey | 1,000 | 1 | 50/60 | 833
Registered Nurse (Infection Preventionist) | Antimicrobial Use & Resistance Component—Monthly Reporting Plan | 100 | 12 | 5/60 | 100
Occupational Health RN/Specialist | Healthcare Personnel Safety Component Annual Facility Survey | 50 | 1 | 8 | 400
Occupational Health RN/Specialist | Healthcare Personnel Safety Monthly Reporting Plan | 11,000 | 1 | 5/60 | 917
Occupational Health RN/Specialist | Healthcare Worker Demographic Data | 50 | 200 | 20/60 | 3,333
Occupational Health RN/Specialist | Exposure to Blood/Body Fluids | 50 | 50 | 1 | 2,500
Occupational Health RN/Specialist | Healthcare Worker Prophylaxis/Treatment | 50 | 30 | 15/60 | 375
Laboratory Technician | Follow-Up Laboratory Testing | 50 | 50 | 15/60 | 625
Occupational Health RN/Specialist | Healthcare Worker Prophylaxis/Treatment-Influenza | 50 | 50 | 10/60 | 417
Medical/Clinical Laboratory Technologist | Hemovigilance Module Annual Survey | 500 | 1 | 2 | 1,000
Medical/Clinical Laboratory Technologist | Hemovigilance Module Monthly Reporting Plan | 500 | 12 | 1/60 | 100
Medical/Clinical Laboratory Technologist | Hemovigilance Module Monthly Reporting Denominators | 500 | 12 | 1 | 6,000
Medical/Clinical Laboratory Technologist | Hemovigilance Adverse Reaction | 500 | 48 | 15/60 | 6,000
Medical/Clinical Laboratory Technologist | Hemovigilance Incident | 500 | 10 | 10/60 | 833
Staff RN | Outpatient Procedure Component—Annual Facility Survey | 5,000 | 1 | 5/60 | 417
Staff RN | Outpatient Procedure Component—Monthly Reporting Plan | 5,000 | 12 | 15/60 | 15,000
Staff RN | Outpatient Procedure Component Event | 5,000 | 25 | 40/60 | 83,333
Staff RN | Outpatient Procedure Component—Monthly Denominators and Summary | 5,000 | 12 | 40/60 | 40,000
Registered Nurse (Infection Preventionist) | Outpatient Dialysis Center Practices Survey | 6,500 | 1 | 1.75 | 11,375
Staff RN | Dialysis Monthly Reporting Plan | 6,500 | 12 | 5/60 | 6,500
Staff RN | Dialysis Event | 6,500 | 60 | 20/60 | 130,000
Staff RN | Denominators for Dialysis Event Surveillance | 6,500 | 12 | 6/60 | 7,800
Staff RN | Prevention Process Measures Monthly Monitoring for Dialysis | 1,500 | 12 | 30/60 | 9,000
Staff RN | Dialysis Patient Influenza Vaccination | 325 | 75 | 10/60 | 4,063
Staff RN | Dialysis Patient Influenza Vaccination Denominator | 325 | 5 | 10/60 | 271
Epidemiologist | State Health Department Validation Record | 152 | 50 | 15/60 | 1,900
Total |  |  |  |  | 4,277,716

Leroy Richardson,
Chief, Information Collection Review Office, Office of Scientific Integrity, Office of the Associate Director for Science, Office of the Director, Centers for Disease Control and Prevention.

[FR Doc. 2014-14339 Filed 6-18-14; 8:45 am]

BILLING CODE 4163-18-P